COMMITTEE FOR THE IMPLEMENTATION OF TEXTILE AGREEMENTS

Determination Under the Textile and Apparel Commercial Availability Provision of the Dominican Republic-Central America-United States Free Trade Agreement (“CAFTA-DR Agreement”)

AGENCY: The Committee for the Implementation of Textile Agreements

ACTION: Determination to add a product in unrestricted quantities to Annex 3.25 of the CAFTA-DR Agreement.

DATES: Effective Date: December 21, 2011.

SUMMARY: The Committee for the Implementation of Textile Agreements (“CITA”) has determined that certain cotton/nylon/spandex raschel knit open work crepe printed fabric, as specified below, is not available in commercial quantities in a timely manner in the CAFTA-DR countries. The product will be added to the list in Annex 3.25 of the CAFTA-DR Agreement in unrestricted quantities.

FOR FURTHER INFORMATION CONTACT: Maria Dybczak, Office of Textiles and Apparel, U.S. Department of Commerce, (202) 482-3651.

For Further Information On-Line: http://web.ita.doc.gov/tacgi/CaftaReqTrack.nsf under “Approved Requests,” Reference number: 159.2011.11.10.Fabric.SS&AforHansollTextile,Ltd

SUPPLEMENTARY INFORMATION:

Authority: The CAFTA-DR Agreement; Section 203(o)(4) of the Dominican Republic-Central America-United States Free Trade Agreement Implementation Act (“CAFTA-DR Implementation Act”), Pub. Law 109-53; the Statement of Administrative Action, accompanying the CAFTA-DR Implementation Act; and Presidential Proclamations 7987 (February 28, 2006) and 7996 (March 31, 2006).

Background: The CAFTA-DR Agreement provides a list in Annex 3.25 for fabrics, yarns, and fibers that the Parties to the CAFTA-DR Agreement have determined are not available in commercial quantities in a timely manner in the territory of any Party. The CAFTA-DR Agreement provides that this list may be modified pursuant to Article 3.25(4)-(5), when the President of the United States determines that a fabric, yarn, or fiber is not available in commercial quantities in a timely manner in the territory of any Party. See Annex 3.25 of the CAFTA-DR Agreement; see also section 203(o)(4)(C) of the CAFTA-DR Implementation Act.

The CAFTA-DR Implementation Act requires the President to establish procedures governing the submission of a request and providing opportunity for interested entities to submit comments and supporting evidence before a commercial availability determination is made. In Presidential Proclamations 7987 and 7996, the President delegated to CITA the authority under section 203(o)(4) of CAFTA-DR Implementation Act for modifying the Annex 3.25 list. Pursuant to this authority, on September 15, 2008, CITA published modified procedures it would follow in considering requests to modify the Annex 3.25 list of products determined to be not commercially available in the territory of any Party to CAFTA-DR (Modifications to Procedures for Considering Requests Under the Commercial Availability Provision of the Dominican Republic-Central America-United States Free Trade Agreement, 73 FR 53200) (“CITA's procedures”).

On November 10, 2011, the Chairman of CITA received a request for a Commercial Availability determination (“Request”) from Sorini Samet & Associates on behalf of Hansoll Textile Ltd. for certain cotton/nylon/spandex raschel knit, open work crepe, printed fabric, as specified below. On November 15, 2011, in accordance with CITA's procedures, CITA notified interested parties of the Request, which was posted on the dedicated Web site for CAFTA-DR Commercial Availability proceedings. In its notification, CITA advised that any Response with an Offer to Supply (“Response”) must be submitted by November 28, 2011, and any Rebuttal Comments to a Response (“Rebuttal”) must be submitted by December 2, 2011, in accordance with sections 6 and 7 of CITA's procedures. No interested entity submitted a Response to the Request advising CITA of its objection to the Request and its ability to supply the subject product.

In accordance with section 203(o)(4)(C) of the CAFTA-DR Implementation Act, and section 8(c)(2) of CITA's procedures, as no interested entity submitted a Response objecting to the Request and demonstrating its ability to supply the subject product, CITA has determined to add the specified fabric to the list in Annex 3.25 of the CAFTA-DR Agreement.

The subject product has been added to the list in Annex 3.25 of the CAFTA-DR Agreement in unrestricted quantities. A revised list has been posted on the dedicated Web site for CAFTA-DR Commercial Availability proceedings.

SPECIFICATIONS: Certain Cotton/Nylon/Spandex Raschel Knit Open Work Crepe Printed Fabric

HTS: 6005.24.00.

Fabric Type: Raschel knit, open work crepe fabric, with a blistered surface with interstices covering 15% of the surface area, printed.

Fiber content: Cotton 61-65%; Nylon 32-34%; Spandex 3-5%.

Yarn size:

Cotton:

Metric: 28/2 to 32/2.

English: 16.5/2 to 19/2.

Nylon:

Metric: 150-160 denier/10 filament.

English: 56-60 denier/10 filament.

Nylon (wrapping yarn for spandex core):

Metric: 113-150 denier/36 filament.

English: 60-80 denier/36 filament.

Spandex (wrapped in nylon):

Metric: 40-45 denier.

English: 200-225 denier.

Weight:

Metric: 160-180 grams per sq. meter.

English: 4.7-5.3 ounces per sq. yard.

Width:

Metric: 137.2-147.4 centimeters, cuttable.

English: 54-58 inches, cuttable.

Machine gauge: 18.

Bar: 18.

Coloration: Pigment print.

Performance criteria:

1. Dimensional stability: −7%/+2%, AATCC 135/150.

2. Fabric skewing: 4%, AATCC 179.

3. Fabric weight: −8%/+8%.

Kim Glas,
Chairman, Committee for the Implementation of Textile and Apparel.

[FR Doc. 2011-32639 Filed 12-20-11; 8:45 am]

BILLING CODE 3510-DS-P